DEPARTMENT OF HOMELAND SECURITY

U.S. Customs and Border Protection

DEPARTMENT OF THE TREASURY

19 CFR Part 122

Air Commerce Regulations

CFR Correction

In Title 19 of the Code of Federal Regulations, parts 0 to 140, revised as of April 1, 2015, on page 810, in § 122.24, in paragraph (b), after the paragraph heading, remove the introductory text before the table.

[FR Doc. 2016-07559 Filed 3-31-16; 8:45 am]

BILLING CODE 1505-01-D